DEPARTMENT OF AGRICULTURE

Forest Service

Modoc County Resource Advisory Committee

AGENCY: Forest Service, Agriculture (USDA).

ACTION: Notice of meeting.

SUMMARY: The Modoc County Resource Advisory Committee (RAC) will hold a virtual meeting by phone and/or teleconference. The committee is authorized under the Secure Rural Schools and Community Self-Determination Act (the Act) and operates in compliance with the Federal Advisory Committee Act. The purpose of the committee is to improve collaborative relationships and to provide advice and recommendations to the Forest Service concerning projects and funding consistent with Title II of the Act as well as make recommendations on recreation fee proposals for sites on or benefitting the Modoc National Forest within Modoc County, California, consistent with the Federal Lands Recreation Enhancement Act. RAC information and virtual meeting information can be found at the following website: https://www.fs.usda.gov/main/modoc/workingtogether/advisorycommittees.

DATES: The meeting will be held on August 25, 2021 at 4:00 p.m., Pacific Daylight Time.

All RAC meetings are subject to cancellation. For meeting status prior to attendance, please contact the person listed under For Further Information Contact.

ADDRESSES: The meeting will be held virtually. Attendees can join via telephone conference by dialing 323-886-7051 with pass code 993916790# and/or via video conference link: https://teams.microsoft.com/l/meetup-join/19%3ameeting_ZTEyNzNmM2ItMTVhYi00ZGQ3LTg1YmQtYWY2Mjk1ZTk5YWE5%40thread.v2/0?context=%7b%22Tid%22%3a%22ed5b36e7-01ee-4ebc-867e-e03cfa0d4697%22%2c%22Oid%22%3a%22acedd9e6-fe59-4fec-8e11-244c6d1d8148%22%7d.

Written comments may be submitted as described under Supplementary Information. All comments, including names and addresses when provided, are placed in the record and are available for public inspection and copying. The public may inspect comments received upon request.

FOR FURTHER INFORMATION CONTACT: Chris Christofferson, Designated Federal Officer (DFO), by phone at 530-233-8700 or email at chris.christofferson@usda.gov or Ken Sandusky at 530-233-8713 or email at kenneth.sandusky@usda.gov.

Individuals who use telecommunication devices for the hearing-impaired (TDD) may call the Federal Information Relay Service (FIRS) at 1-800-877-8339 between 8:00 a.m. and 8:00 p.m., Eastern Daylight Time, Monday through Friday.

SUPPLEMENTARY INFORMATION: The purpose of the meeting is to:

1. Hear from possible Title II project proponents and discuss project proposals;

2. Plan for project solicitation and replacment member recruitment;

3. Review old projects' meeting minutes; and

4. Schedule the next meeting.

The meeting is open to the public. The agenda will include time for people to make oral statements of three minutes or less. Individuals wishing to make an oral statement should make a request in writing by August 16, 2021, to be scheduled on the agenda. Anyone who would like to bring related matters to the attention of the committee may file written statements with the committee via the Modoc National Forest staff before or after the meeting. Written comments and requests for time for oral comments must be sent to Modoc County RAC, 225 W 8th St., Alturas, CA, 96101 or by email to kenneth.sandusky@usda.gov.

Meeting Accommodations: If you require reasonable accommodation, please make requests in advance for sign language interpreting, assistive listening devices, or other reasonable accommodation. For access to the facility or proceedings, please contact the person listed in the section titled For Further Information Contact. All reasonable accommodation requests are managed on a case-by-case basis.

Dated: July 13, 2021.
Cikena Reid,
USDA Committee Management Officer.

[FR Doc. 2021-15216 Filed 7-16-21; 8:45 am]

BILLING CODE 3411-15-P